DEPARTMENT OF ENERGY

Federal Energy Regulatory Commission

[Project Nos. P-13403-001, P-13404-001, P-13405-001, P-13406-001, P-13407-001, P-13408-001, P-13410-001, P-13411-001, and P-13412-001]

Clear River Power, et al.; Notice of Intent To File License Application, Filing of Pre-Application Document, and Approving Use of the Traditional Licensing Process

January 25, 2011.

a. Type of Filing: Notice of Intent to File License Application and Request to Use the Traditional Licensing Process.

b. Project Nos.: 13403-001, 13404-001, 13405-001, 13406-001, 13407-001, 13408-001, 13410-001, 13411-001, and 13412-001

c. Dated Filed: December 1, 2010

d. Submitted By: Clear River Power, et al. (Clear River Power), subsidiaries of Free Flow Power Corporation

e. Name of Projects: Luke Chute Lock and Dam Project, P-13403-001; Beverly Lock and Dam Project, P-13404-001; Devola Lock and Dam Project, P-13405-001; Malta/McConnelsville Lock and Dam Project, P-13406-001; Lowell Lock and Dam Project, P-13407-001; Philo Lock and Dam Project, P-13408-001; Ellis Lock and Dam Project, P-13410-001; Rokeby Lock and Dam Project, P-13411-001; and Zanesville Lock and Dam Project, P-13412-001

f. Location: At existing locks and dams formally owned and operated by the U.S. Army Corps of Engineers but now owned and operated by the state of Ohio on the Muskingum River in Washington, Morgan, and Muskingum counties, Ohio. (See table below for specific project locations)

Project No. | Projects | County(s) | City/town
P-13403 | Luke Chute Lock and Dam | Washington Morgan | between the cities of Stockport and Beckett.
P-13404 | Beverly Lock and Dam | Washington | upstream of the city of Beverly.
P-13405 | Devola Lock and Dam | Washington | near the city of Devola.
P-13406 | Malta/McConnelsville Lock and Dam | Morgan | southern shore of the town of McConnelsville.
P-13407 | Lowell Lock and Dam | Washington | west of the city of Lowell.
P-13408 | Philo Lock and Dam | Muskingum | north of the city of Philo.
P-13410 | Ellis Lock and Dam | Muskingum | east of town of Ellis.
P-13411 | Rokeby Lock and Dam | Morgan | near the city of Rokeby.
P-13412 | Zanesville Lock and Dam | Muskingum | near the center of the city of Zanesville.

g. Filed Pursuant to: Federal Power Act, 16 U.S.C. 808(b)(1) and 18 CFR 5.5 of the Commission's regulations.

h. Potential Applicant Contact: Ramya Swaminathan, Chief Operating Officer, Free Flow Power, 33 Commercial Street, Gloucester, MA 01930; or at (978) 252-7361.

i. FERC Contact: Joseph Adamson at (202) 502-8085; or e-mail at joseph.adamson@ferc.gov.

j. On December 1, 2010, the Clear River Power, filed its request to use the Traditional Licensing Process and provided public notice of its request. In a letter dated January 21, 2011, the Director, Division of Hydropower Licensing, approved the Clear River Power's request to use the Traditional Licensing Process.

k. With this notice, we are initiating informal consultation with: (a) The U.S. Fish and Wildlife Service and NOAA Fisheries under section 7 of the Endangered Species Act and the joint agency regulations thereunder at 50 CFR, Part 402; (b) NOAA Fisheries under section 305(b) of the Magnuson-Stevens Fishery Conservation and Management Act and implementing regulations at 50 CFR 600.920; and (c) the Ohio State Historic Preservation Officer, as required by section 106 of the National Historic Preservation Act, and the implementing regulations of the Advisory Council on Historic Preservation at 36 CFR 800.2.

l. With this notice, we are designating the Clear River Power as the Commission's non-federal representative for carrying out informal consultation, pursuant to section 7 of the Endangered Species Act, section 305 of the Magnuson-Stevens Fishery Conservation and Management Act, and section 106 of the National Historic Preservation Act.

m. Clear River Power filed a Pre-Application Document (PAD), including a proposed process plan and schedule with the Commission, pursuant to 18 CFR 5.5 of the Commission's regulations.

n. A copy of the PAD is available for review at the Commission in the Public Reference Room or may be viewed on the Commission's website (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

o. Register online at http://www.ferc.gov/docs-filing/esubscription.asp to be notified via e-mail of new filing and issuances related to this or other pending projects. For assistance, contact FERC Online Support.

Kimberly D. Bose,
Secretary.

[FR Doc. 2011-2141 Filed 1-31-11; 8:45 am]

BILLING CODE 6717-01-P